NUCLEAR REGULATORY COMMISSION

[NRC-2020-0231]

Risk-Informed, Performance-Based Fire Protection for Existing Light-Water Nuclear Power Plants

AGENCY: Nuclear Regulatory Commission.

ACTION: Regulatory guide; issuance.

SUMMARY: The U.S. Nuclear Regulatory Commission (NRC) is issuing Revision 2 to Regulatory Guide (RG), RG 1.205, “Risk-Informed, Performance-Based Fire Protection for Existing Light-Water Nuclear Power Plants”. This RG describes an approach that is acceptable to the NRC staff to meet the regulatory requirements in the NRC's regulations and the National Fire Protection Association (NFPA) Standard 805, “Performance-Based Standard for Fire Protection for Light Water Reactor Electric Generating Plants,” 2001 Edition, which is incorporated by reference in the NRC's regulations.

DATES: Revision 2 to RG 1.205 is available on May 28, 2021.

ADDRESSES: Please refer to Docket ID NRC-2020-0231 when contacting the NRC about the availability of information regarding this document. You may obtain publicly available information related to this document using any of the following methods:

• Federal Rulemaking Website: Go to https://www.regulations.gov and search for Docket ID NRC-2020-0231. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

Revision 2 to RG 1.205 and the regulatory analysis may be found in ADAMS under Accession Nos. ML21048A448 and ML20231A891, respectively.

Regulatory guides are not copyrighted, and NRC approval is not required to reproduce them.

FOR FURTHER INFORMATION CONTACT: Michael Eudy, Office of Nuclear Regulatory Research, telephone: 301-415-3104, email: Michael.Eudy@nrc.gov and Charles Moulton, Office of Nuclear Reactor Regulation, telephone: 301-415-2715, email: Charles.Moulton@nrc.gov. Both are staff of the U.S. Nuclear Regulatory Commission, Washington, DC 20555-0001.

SUPPLEMENTARY INFORMATION:

I. Discussion

The NRC is issuing a revision in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 2 to RG 1.205 was issued with a temporary identification of Draft Regulatory Guide, DG-1360. This revision of the guide (Revision 2) addresses new information identified since the guide was previously revised in 2009. This RG updates the previous staff positions and endorsements made regarding earlier versions of Nuclear Energy Institute (NEI) guidance documents, NEI-04-02, “Guidance for Implementing a Risk-Informed, Performance-Based Fire Protection Program Under 10 CFR 50.48(c),” and NEI 00-01, “Guidance for Post Fire Safe Shutdown Circuit Analysis.” This revision endorses NEI 04-02, Revision 3, issued 2019, and portions of NEI-00-01, Revision 4, issued 2019, and includes guidance concerning fire-induced circuit failures.

II. Additional Information

The NRC published a notice of the availability of DG-1360 in the Federal Register on November 16, 2020 (85 FR 73088) for a 45-day public comment period. The public comment period closed on December 31, 2020. Public comments on DG-1360 and the staff responses to the public comments are available in ADAMS under Accession No. ML21048A449.

III. Congressional Review Act

This RG is a rule as defined in the Congressional Review Act (5 U.S.C. 801-808). However, the Office of Management and Budget has not found it to be a major rule as defined in the Congressional Review Act.

IV. Backfitting, Forward Fitting, and Issue Finality

RG 1.205, Revision 2, would incorporate the latest information concerning risk-informed, performance-based fire protection programs and supporting guidance. Issuance of RG 1.205, Revision 2, would not constitute backfitting, as that term is defined in section 50.109 of title 10 of Code of Federal Regulations (CFR), “Backfitting,” and as described in NRC Management Directive (MD) 8.4, “Management of Backfitting, Forward Fitting, Issue Finality, and Information Requests”; constitute forward fitting, as that term is defined and described in MD 8.4; or affect the issue finality of any approval issued under 10 CFR part 52. As explained in RG 1.205, Revision 2, applicants and licensees would not be required to comply with the positions set forth in RG 1.205, Revision 2.

Dated: May 24, 2021.
For the Nuclear Regulatory Commission.
Meraj Rahimi,
Chief, Regulatory Guidance and Generic Issues Branch, Division of Engineering, Office of Nuclear Regulatory Research.

[FR Doc. 2021-11297 Filed 5-27-21; 8:45 am]

BILLING CODE 7590-01-P